DEPARTMENT OF AGRICULTURE

Submission for OMB Review; Comment Request

March 9, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 13, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP), State Law Enforcement Bureau (SLEB) Fraud Investigations.

OMB Control Number: 0584-NEW.

Summary of Collection: FNS works with State partners to establish State Law Enforcement Bureau (SLEB) agreements to improve program administration and ensure program integrity. Through SLEB agreements, FNS authorizes State agencies to conduct investigations into possible SNAP retailer/electronic benefits transfer (EBT) fraud, and to obtain Electronic Benefits Transfer (EBT) benefits for such law enforcement and investigative activities. These agreements provide State agencies with additional resources to conduct investigations, including, but not limited to, the authorized use of SNAP benefits to carry out covert investigations of retailers, as well as other retailer-related law enforcement techniques. FNS created a form FNS-878, titled SLEB SNAP Fraud Investigation Cost Reconciliation, that records costs associated with SLEB investigations.

Need and Use of the Information: FNS will use this information for accounting purposes, and to document findings that will help the agency to adequately allocate resources and ensure program integrity.

Description of Respondents: State, Local or Tribal Government.

Number of Respondents: 53.

Frequency of Responses: Reporting: Bi-annually.

Total Burden Hours: 212.

Food and Nutrition Service

Title: The Loving Support Award of Excellence.

OMB Control Number: 0584-0591.

Summary of Collection: The Healthy, Hunger-Free Kid Act of 2010 (HHFKA) (Pub. L. 111-296, Sec 231) requires the U.S. Department of Agriculture (USDA) to implement a program to recognize exemplary breastfeeding support practices at Women, Infants, and Children (WIC) local agencies and clinics. The HHFKA requires the USDA to annually compile and publish breastfeeding performance measurements. The breastfeeding performance measurements will be used in the process to determine awardees for the top two level awards.

Need and Use of the Information: The award application period is open one time, annually, and has been designed to allow local WIC agencies at different stages of progress in breastfeeding support practices to apply for an award. The information collection will meet the HHFKA requirement to implement a program to recognize exemplary breastfeeding support practices at WIC local agencies and clinics and the performance reporting requirements.

Description of Respondents: State, Local or Tribal Government.

Number of Respondents: 453.

Frequency of Responses: Reporting: Annually.

Total Burden Hours: 1,161.

Ruth Brown,
Departmental Information Collection Clearance Officer.

[FR Doc. 2017-04971 Filed 3-13-17; 8:45 am]

BILLING CODE 3410-30-P